DEPARTMENT OF TRANSPORTATION

Federal Aviation Administration

14 CFR Part 39

[Docket No. FAA-2009-0348; Directorate Identifier 2008-NE-39-AD]

RIN 2120-AA64

Airworthiness Directives; Turbomeca S.A. ARRIUS 1A Turboshaft Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Cycle life limit value for ARRIUS 1A balancing piston Part Number (P/N) 0 319 20 152 0, initially set at 40 000 cycles, has been reduced to 16 000 cycles, following the discovery of a calculation error during a recent review of the ARRIUS 1 engine family files.

We are proposing this AD to prevent failure of the balancing piston, which could result in an engine in-flight-shutdown and the release of high-energy debris and damage to the helicopter.

DATES: We must receive comments on this proposed AD by May 18, 2009.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: James Lawrence, Aerospace Engineer, Engine Certification Office, FAA, Engine & Propeller Directorate, 12 New England Executive Park, Burlington, MA 01803; e-mail: james.lawrence@faa.gov; telephone (781) 238-7176; fax (781) 238-7199.

SUPPLEMENTARY INFORMATION:

Comments Invited

We invite you to send any written relevant data, views, or arguments about this proposed AD. Send your comments to an address listed under the ADDRESSES section. Include “Docket No. FAA-2009-0348; Directorate Identifier 2008-NE-39-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2008-0133, dated July 17, 2008, [(referred to after this as “the MCAI”), to correct an unsafe condition for the specified products]. The MCAI states:

Cycle life limit value for ARRIUS 1A balancing piston Part Number (P/N) 0 319 20 152 0, initially set at 40 000 cycles, has been reduced to 16 000 cycles, following the discovery of a calculation error during a recent review of the ARRIUS 1 engine family files.

As of the publication date of this Airworthiness Directive, no ARRIUS 1A engines in service are fitted with a balancing piston that has logged more than 16 000 cycles, and the outlook for the consumption of cycles on the ARRIUS 1A fleet indicates that no balancing pistons will exceed this new limit for a few years' time.

Moreover, this new cycle life limit value for the balancing piston has been incorporated since the end of 2007 in ARRIUS 1A Maintenance documentation.

Failure to comply with the new life limits provided in the Airworthiness Limitations Section of ARRIUS 1A Maintenance documentation could potentially result in an engine in-flight-shutdown and the release of high energy debris.

You may obtain further information by examining the MCAI in the AD docket.

FAA's Determination and Requirements of This Proposed AD

This product has been approved by the aviation authority of France, and is approved for operation in the United States. Pursuant to our bilateral agreement with France, they have notified us of the unsafe condition described in the MCAI and service information referenced above. We are proposing this AD because we evaluated all information provided by EASA and determined the unsafe condition exists and is likely to exist or develop on other products of the same type design.

Differences Between This AD and the MCAI or Service Information

The MCAI requires modifying the cyclic life limit value of the balancing piston in the engine log book as specified in Turbomeca Mandatory Service Bulletin 319 72 0811, dated April 30, 2008, and updating the approved operator's maintenance program.

We are requiring removing the balancing piston, P/N 0 319 20 152 0, before it meets or exceeds the new, reduced cyclic life limit value of 16,000 cycles-since-new.

Costs of Compliance

Based on the service information, we estimate that this proposed AD would affect about 33 products of U.S. registry. We also estimate that it would take about 0.5 work-hour per product to comply with this proposed AD. The average labor rate is $80 per work-hour. Required parts would cost about $5,280 per product. Based on these figures, we estimate the cost of the proposed AD on U.S. operators to be $175,560. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Turbomeca S.A.: Docket No. FAA-2009-0348; Directorate Identifier 2008-NE-39-AD.

Comments Due Date

(a) We must receive comments by May 18, 2009.

Affected Airworthiness Directives (ADs)

(b) None.

Applicability

(c) This AD applies to Turbomeca S.A. ARRIUS 1A turboshaft engines with balancing pistons, part number (P/N) 0 319 20 152 0, installed. These engines are installed on, but not limited to, Eurocopter AS355N helicopters.

Reason

(d) Cycle life limit value for ARRIUS 1A balancing piston Part Number (P/N) 0 319 20 152 0, initially set at 40 000 cycles, has been reduced to 16 000 cycles, following the discovery of a calculation error during a recent review of the ARRIUS 1 engine family files.

We are issuing this AD to prevent failure of the balancing piston, which could result in an engine in-flight-shutdown and the release of high-energy debris and damage to the helicopter.

Actions and Compliance

(e) Unless already done, for ARRIUS 1A engines with a balancing piston, P/N 0 319 20 152 0, installed, remove the engine from service before the balancing piston accumulates 16,000 cycles-since-new (CSN).

Installation Prohibition

(f) After the effective date of this AD, don't return to service any engine that has a balancing piston that has accumulated 16,000 or more CSN.

FAA AD Differences

(g) This AD differs from the Mandatory Continuing Airworthiness Information (MCAI) or service information as follows:

(1) This AD requires removing from service, any ARRIUS 1A engine that has a balancing piston, P/N 0 319 20 152 0, with 16,000 CSN installed.

(2) We prohibit returning to service ARRIUS 1A engine that has a balancing piston, P/N 0 319 20 152 0, with 16,000 or more CSN.

Other FAA AD Provisions

(h) Alternative Methods of Compliance (AMOCs): The Manager, Engine Certification Office, FAA, has the authority to approve AMOCs for this AD, if requested using the procedures found in 14 CFR 39.19.

Related Information

(i) Refer to MCAI Airworthiness Directive 2008-0133, dated July 17, 2008 for related information.

(j) Contact James Lawrence, Aerospace Engineer, Engine Certification Office, FAA, Engine & Propeller Directorate, 12 New England Executive Park, Burlington, MA 01803; e-mail: james.lawrence@faa.gov; telephone (781) 238-7176; fax (781) 238-7199, for more information about this AD.

Issued in Burlington, Massachusetts, on April 9, 2009.
Peter A. White,
Assistant Manager, Engine and Propeller Directorate, Aircraft Certification Service.

[FR Doc. E9-8786 Filed 4-16-09; 8:45 am]

BILLING CODE 4910-13-P